ADVISORY COUNCIL ON HISTORIC PRESERVATION

Notice of Performance Review Board

AGENCY: Advisory Council on Historic Preservation.

ACTION: Notice of Performance Review Board.

SUMMARY: Appointment of individuals to serve as members of the Performance Review Board.

DATES: These appointments were effective on November 27, 2024.

FOR FURTHER INFORMATION CONTACT: Javier E. Marqués, General Counsel, Advisory Council on Historic Preservation, jmarques@achp.gov; 202-517-0192.

SUPPLEMENTARY INFORMATION: The Chair of the Advisory Council on Historic Preservation (ACHP) has appointed the following individuals to serve on the ACHP's Performance Review Board (PRB):

Chairperson of the PRB: Amelia AM Marchand

Member—Dr. Michael Brennan

Member—Joy Beasley

Authority: 5 U.S.C. 4314(c)(4).

Dated: December 9, 2024.
Javier E. Marqués,
General Counsel.

[FR Doc. 2024-29293 Filed 12-11-24; 8:45 am]

BILLING CODE 4310-K6-P